SMALL BUSINESS ADMINISTRATION

[Disaster Declaration #15224 and #15225; California Disaster Number CA-00275]

Administrative Declaration of a Disaster for the State of California

AGENCY: U.S. Small Business Administration.

ACTION: Notice.

SUMMARY: This is a notice of an Administrative declaration of a disaster for the State of CALIFORNIA.

DATES: Issued on 07/31/2017.

Physical Loan Application Deadline Date: 09/29/2017.

Economic Injury (EIDL) Loan Application Deadline Date: 05/01/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

Dated July 31, 2017.

Incident: Detwiler Fire.

Incident Period: July 16, 2017, and continuing.

The following areas have been determined to be adversely affected by the disaster:

Primary Counties: Mariposa

Contiguous Counties:

California: Madera, Merced, Stanislaus, Tuolumne.

The Interest Rates are:

| Percent
For Physical Damage:
Homeowners with Credit Available Elsewhere | 3.500
Homeowners without Credit Available Elsewhere | 1.750
Businesses with Credit Available Elsewhere | 6.610
Businesses without Credit Available Elsewhere | 3.305
Non-Profit Organizations with Credit Available Elsewhere | 2.500
Non-Profit Organizations without Credit Available Elsewhere | 2.500
For Economic Injury:
Businesses & Small Agricultural Cooperatives without Credit Available Elsewhere | 3.305
Non-Profit Organizations without Credit Available Elsewhere | 2.500

The number assigned to this disaster for physical damage is 15224 5 and for economic injury is 15225 0.

The State which received an EIDL Declaration # is California.

(Catalog of Federal Domestic Assistance Number 59008)

Dated: July 31, 2017.
Linda E. McMahon,
Administrator.

[FR Doc. 2017-16535 Filed 8-4-17; 8:45 am]

BILLING CODE 8025-01-P